LIBRARY OF CONGRESS

Copyright Royalty Board

[Docket No. 2006-2 CRB NCBRA]

Determination of Reasonable Rates and Terms for Noncommercial Broadcasting

AGENCY: Copyright Royalty Board, Library of Congress.

ACTION: Notice announcing commencement of proceeding with request for Petitions to Participate.

SUMMARY: The Copyright Royalty Board of the Library of Congress is announcing the commencement of the proceeding to determine the reasonable rates and terms for use of certain works in connection with noncommercial broadcasting. The Board is also announcing the date by which a party who wishes to participate in the new rate proceeding must file its Petition to Participate and the accompanying $150 filing fee.

DATES: Petitions to Participate and the filing fee are due no later than February 8, 2006.

ADDRESSES: If hand delivered by a private party, an original and five copies of a Petition to Participate along with the $150 filing fee should be brought to Room LM-401 of the James Madison Memorial Building between 8:30 a.m. and 5 p.m. and the envelope should be addressed as follows: Copyright Royalty Board, Library of Congress, James Madison Memorial Building, Room LM-401, 101 Independence Avenue, SE., Washington, DC 20559-6000. If delivered by a commercial carrier, an original and five copies of a Petition to Participate along with the $150 filing fee must be delivered to the Congressional Courier Acceptance Site located at 2nd and D Street, NE., between 8:30 a.m. and 4 p.m. The envelope should be addressed as follows: Copyright Royalty Board, Library of Congress, Room 403, James Madison Memorial Building, 101 Independence Avenue, SE., Washington, DC. If sent by mail (including overnight delivery using U.S. Postal Service Express Mail), an original and five copies of a Petition to Participate along with the $150 filing fee should be addressed to: Copyright Royalty Board, P.O. Box 70977, Southwest Station, Washington, DC 20024-0977. Petitions to Participate and the $150 filing fee may not be delivered by means of overnight delivery services such as Federal Express, United Parcel Service, etc., due to delays in processing receipt of such deliveries.

FOR FURTHER INFORMATION CONTACT: Abioye E. Oyewole, CRB Program Specialist. Telephone: (202) 707-8380. Telefax: (202) 252-3423.

SUPPLEMENTARY INFORMATION:

Background

This Notice is issued pursuant to section 804(b)(6) of the Copyright Act, 17 U.S.C. 804(b)(6), which states: “A petition * * * to initiate proceedings under section 801(b)(1) concerning the determination of reasonable terms and rates of royalty payments as provided in section 118 may be filed in the year 2006 * * *.” However, since no petition has been filed pursuant to section 804(b)(6), 17 U.S.C. 803(b)(1)(A)(i)(V) requires Copyright Royalty Judges publish a Federal Register notice no later than January 5, 2006, commencing this proceeding.

Petitions To Participate

Any party who wishes to participate in this proceeding must submit to the Board a Petition to Participate by no later than February 8, 2006. 17 U.S.C. 803(b)(1)(A)(ii). The single or joint Petition to Participate must provide all of the information required by 37 CFR 351.1(b). See 70 FR 30906-07 (May 31, 2005). The Petition to Participate must be accompanied by a $150 filing fee. Cash will not be accepted; therefore, parties must pay the filing fee with a check or money order made payable to “Copyright Royalty Board.” If a check received in payment of the filing fee is returned for lack of sufficient funds, the corresponding Petition to Participate will be dismissed. Note that in any Copyright Royalty Board proceeding, unlike in Copyright Arbitration Royalty Panel proceedings, according to 37 CFR 350.2 (Representation), only attorneys who are members of the bar in one or more states and in good standing will be allowed to represent parties before the Copyright Royalty Board if a party does not solely represent him or herself.

Dated: January 4, 2006.
Bruce G. Forrest,
Interim Chief Copyright Royalty Judge.

[FR Doc. 06-170 Filed 1-6-06; 8:45 am]

BILLING CODE 1410-72-P